DEPARTMENT OF JUSTICE

Parole Commission

[(Public Law 94-409) (5 U.S.C. Sec. 552b)]

Record of Vote of Meeting Closure

I, Edward F. Reilly, Jr., Chairman of the United States Parole Commission, was present at a meeting of said Commission which started at approximately 11 a.m. on Thursday, December 6, 2001; at the U.S. Parole Commission, 5550 Friendship Boulevard, 4th Floor, Chevy Chase, Maryland 20815. The purpose of the meeting was to decide one appeal from the National Commissioners' decisions pursuant to 28 CFR section 2.27 and the Approval of the Hearing Examiner Appointment. Three Commissioners were present, constituting a quorum when the vote to close the meeting was submitted.

Public announcement further describing the subject matter of the meeting and certifications of General Counsel that this meeting may be closed by vote of the Commissioners present were submitted to the Commissioners prior to the conduct of any other business. Upon motion duly made, seconded, and carried, the following Commissioners voted that the meeting be closed: Edward F. Reilly, Jr., Michael J. Gaines, and John R. Simpson.

In Witness Whereof, I make this official record of the vote taken to close this meeting and authorize this record to be made available to the public.

Dated: December 6, 2001.
Edward F. Reilly, Jr.,
Chairman, U.S. Parole Commission.

[FR Doc. 01-30881 Filed 12-11-01; 10:40 am]

BILLING CODE 4410-01-M